DEPARTMENT OF THE INTERIOR

National Park Service

[N6654; NPS-WASO-NAGPRA-NPS0041391; PPWOCRADN0-PCU00RP14.R50000]

Notice of Inventory Completion: University of Georgia, Laboratory of Archaeology, Athens, GA

AGENCY: National Park Service, Interior.

ACTION: Notice.

SUMMARY: In accordance with the Native American Graves Protection and Repatriation Act (NAGPRA), the University of Georgia, Laboratory of Archaeology has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to Amanda Roberts Thompson, University of Georgia, Laboratory of Archaeology, 1125 E Whitehall Rd., Athens, GA 30602, email arobthom@uga.edu.

SUPPLEMENTARY INFORMATION: This notice is published as part of the National Park Service's administrative responsibilities under NAGPRA. The determinations in this notice are the sole responsibility of the University of Georgia, Laboratory of Archaeology, and additional information on the determinations in this notice, including the results of consultation, can be found in its inventory or related records. The National Park Service is not responsible for the determinations in this notice.

Abstract of Information Available

Human remains and associated funerary objects were removed from the Lower Coastal Plain Physiographic Province of Georgia, including Bryan County sites 9BN7 Seven Mile Bend, 9BN9 Red Bird Creek, 9BN10 Kilkenny; Chatham County sites 9CH_, 9CH14 Oemler Mound, 9CH15 Haven Home (Indian Kings Tomb), 9CH61 Pagan Plum, 9CH71 Groves Creek, 9CH119, 9CH683 Habersham Mounds; Glynn County sites 9GN1 Airport, 9GN3 Charlie King Mound, 9GN6 Evelyn, 9GN22 Kelvin Grove Plantation, 9GN34 Sea Island Point, 9GN40 Belle Point, 9GN51 Kent Mound, 9GN54 Goodyear Mound, 9GN55 Taylor Mound, 9GN56 Oatland Mound, 9GN74 Sea Palms, 9GN88 Kutwick; Liberty County sites LI Shoreline Survey, 9LI8 Fallen Tree, 9LI21 Meeting House Field, 9LI207 Back Creek Village, 9LI231 St. Catherines Shell Ring, 9LI274 Mission Santa Catalina de Guale, 9LI648, McQueen Shell Ring, 9LI2111 Hope Mound, 9LI2117 Pueblo North; McIntosh County sites 9MC_Site 147, 9MC_Harris Neck, 9MC4 Townsend Mound, 9MC64 Pine Harbor Mound, 9MC404 The Thicket, 9MC414 Little Pine Island and from unprovenienced areas in Chatham County, Liberty County, Glynn County, and McIntosh County.

Human remains representing at least 24 individuals have been identified. The approximately 496 associated funerary objects include faunal bone, shell, charcoal, shell and bone mix, shell beads, ceramics. These ancestors and objects were recovered in excavations by Fred Cook in 1971 at 9BN7, Seven Mile Bend in Bryan County, Georgia. Cook likely brought the collection to the University of Georgia, Laboratory of Archaeology after the project but the date is not known. There is no record of any potentially hazardous substances.

Human remains representing at least five individuals have been identified. The approximately 183 associated funerary objects include faunal bone, lithic, and ceramics. These ancestors and objects were excavated by Charles Pearson and Chester DePratter in 1973 at 9BN9, Red Bird Creek in Bryan County, Georgia. Pearson and DePratter likely brought the collection to the University of Georgia, Laboratory of Archaeology after the project but the date is not known. There is no record of any potentially hazardous substances.

Human remains representing at least three individuals have been identified. The approximately 47 associated funerary objects include shell beads. These ancestors and objects were recovered in excavations by Fred Cook in 1968 at 9BN10, Kilkenny Mound in Bryan County, Georgia. Cook likely brought the collection to the University of Georgia, Laboratory of Archaeology after the project but the date is not known. There is no record of any potentially hazardous substances.

Human remains representing at least one individual have been identified. The approximately 26 associated funerary objects include ceramics, clay, nail, lithic, shell, faunal bone, and charcoal/burnt wood. The ancestor and objects were recovered in excavations from an unknown location in Chatham County, Georgia. Howard and DePratter's names are written on other bags in this box (from other sites). So, it is probable that this unknown site was part of the NSF surface survey they were conducting in the 1970s. It is likely the collection was brought to the University of Georgia, Laboratory of Archaeology after the project but the date is not known. There is no record of any potentially hazardous substances.

Human remains representing at least one individual have been identified. There are no associated funerary objects. Chester DePratter and Pennington collected at 9CH14 Oemler Marsh Mound in Chatham County, Georgia in 1978. It is likely the collection was brought to the University of Georgia, Laboratory of Archaeology after the project but the date is not known. There is no record of any potentially hazardous substances.

Human remains representing at least four individuals have been identified. The approximately 364 associated funerary objects include ceramics. These ancestors and objects were excavated from 9CH15, Haven Home in Chatham County, Georgia. The collection history is somewhat unclear, but it is known that excavations occurred at the site in the late 1930s. At some point in 1972, 1 associated funerary object was transferred to the University of Georgia, Laboratory of Archaeology. Ancestors and associated funerary objects were transferred from the University of West Georgia and Fernbank Natural History Museum in 2025. There is no record of any potentially hazardous substances.

Human remains representing at least one individual have been identified. There are no associated funerary objects. Chester DePratter and Don Crusoe excavated at 9CH61, Pagan Plum Point in Chatham County, Georgia in early 1970s. It is likely the collection was brought to the University of Georgia, Laboratory of Archaeology after the project but the date is not known. There is no record of any potentially hazardous substances.

Human remains representing at least seven individuals have been identified. There are no associated funerary objects. Erv Garrison excavated at 9CH71, Grove's Creek in Chatham County, Georgia between 1985 and 2009. There was also an earlier excavation in 1970. It is unclear when the ancestors were removed from the site but based on the label on the box, it was before 1993. It is likely the collection was brought to the University of Georgia, Laboratory of Archaeology after this date. There is no record of any potentially hazardous substances.

Human remains representing at least one individual have been identified. The approximately 16 associated funerary objects include ceramics, soil, charcoal, and sandstone concretions. Chester DePratter collected at 9CH119, in Chatham County, Georgia around 1974. It is likely the collection was brought to the University of Georgia, Laboratory of Archaeology after this date. There is no record of any potentially hazardous substances.

Human remains representing at least one individual have been identified. The approximately 22 associated funerary objects include lithics, burnt wood, burnt shell, burnt clay, and ceramics. Fred Cook collected at 9CH683, Habersham Mounds in Chatham County, Georgia around 1981. It is likely the collection was brought to the University of Georgia, Laboratory of Archaeology after this date. There is no record of any potentially hazardous substances.

Human remains representing at least three individuals have been identified. The approximately 26 associated funerary objects include faunal bone. Fred Cook collected at 9GN1, Airport in Glynn County, Georgia during an unknown year. It is likely the collection was brought to the University of Georgia, Laboratory of Archaeology with other collections excavated by Cook but the year is unknown. There is no record of any potentially hazardous substances.

Human remains representing at least one individual have been identified. There are no associated funerary objects. Fred Cook collected at 9GN3, Charlie King Mound in Glynn County, Georgia during an unknown year. It is likely the collection was brought to the University of Georgia, Laboratory of Archaeology with other collections excavated by Cook but the year is unknown. There is no record of any potentially hazardous substances.

Human remains representing at least one individual have been identified. The approximately two associated funerary objects include ochre sand/clay. Chester DePratter and Bill Steed excavated at 9GN6, Evelyn in Glynn County, Georgia in 1968. It is likely the collection was brought to the University of Georgia, Laboratory of Archaeology after this date. There is no record of any potentially hazardous substances.

Human remains representing at least two individuals have been identified. There are no associated funerary objects. Fred Cook collected at 9GN22, Kelvin Grove Plantation in Glynn County, Georgia during an unknown year. It is likely the collection was brought to the University of Georgia, Laboratory of Archaeology with other collections excavated by Cook but the year is unknown. There is no record of any potentially hazardous substances.

Human remains representing at least one individual have been identified. There are no associated funerary objects. Chester DePratter and Don Crusoe collected an eroding burial at 9GN34, Sea Island Point in Glynn County, Georgia in approximately 1971. It is likely the collection was brought to the University of Georgia, Laboratory of Archaeology after this date. There is no record of any potentially hazardous substances.

Human remains representing at least one individual have been identified. There are no associated funerary objects. Chester DePratter and Don Crusoe collected at 9GN40, Belle Point in Glynn County, Georgia in approximately 1971. It is likely that the collection was brought to the University of Georgia, Laboratory of Archaeology after this date. There is no record of any potentially hazardous substances.

Human remains representing at least 84 individuals have been identified. The approximately 896 associated funerary objects include shell/bone/charcoal mix, shell, shell pins, carved bone, shell beads, pearl beads, glass beads, ceramics, lithics, mica and galena, faunal bone, and charcoal. Fred Cook excavated at 9GN51, Kent Mound in Glynn County Georgia around 1965. It is likely that part of the collection was brought to the University of Georgia, Laboratory of Archaeology with other collections excavated by Cook but the year is unknown. Part of the collection was also brought to Skidaway Institute before it was transferred to the University of Georgia, Laboratory of Archaeology in approximately 2018. There is no record of any potentially hazardous substances.

Human remains representing at least three individuals have been identified. The approximately four associated funerary objects include charcoal and faunal bone. Fred Cook and Charles Pearson collected at a previously looted portion of 9GN54, Goodyear Mound in Glynn County, Georgia during an unknown year. It is likely that the collection was brought to the University of Georgia, Laboratory of Archaeology with other collections excavated by Cook but the year is unknown. There is no record of any potentially hazardous substances.

Human remains representing at least 12 individuals have been identified. The approximately 3,283 associated funerary objects include shell beads, crab claw, faunal bone, lithics, ceramics, possible pearl beads, copper rivet, botanicals, unidentified iron, nails, iron axe, coins, and shell ear pins. Fred Cook excavated at 9GN55, Taylor Mound in Glynn County Georgia between 1968 to 1972. It is likely the collection was brought to the University of Georgia, Laboratory of Archaeology with other collections excavated by Cook but the year is unknown. There is no record of any potentially hazardous substances.

Human remains representing at least two individuals have been identified. The approximately 159 associated funerary objects include shell beads, shell ear plug, faunal bone, antler, and ceramics. Charles Pearson and Fred Cook excavated at 9GN56, Oatland Mound in Glynn County, Georgia between 1968 and 1972. It is likely the collection was brought to the University of Georgia, Laboratory of Archaeology with other collections excavated by Cook but the year is unknown. There is no record of any potentially hazardous substances.

Human remains representing at least 17 individuals have been identified. The approximately 10 associated funerary objects include ceramics and faunal bone from burial fill. Fred Cook conducted excavations and surface collecting at 9GN74, Sea Palms in Glynn County, Georgia in 1972. It is likely that the collection was brought to the University of Georgia, Laboratory of Archaeology with other collections excavated by Cook but the year is unknown. There is no record of any potentially hazardous substances.

Human remains representing at least one individual have been identified. There are no associated funerary objects. Fred Cook collected at 9GN88, Kutwick in Glynn County, Georgia on an unknown date. It is likely the collection was brought to the University of Georgia, Laboratory of Archaeology with other collections excavated by Cook but the year is unknown. There is no record of any potentially hazardous substances.

Human remains representing at least one individual have been identified. There are no associated funerary objects. The ancestor identified here was surface collected along the shoreline of St. Catherines Island in Liberty County, Georgia by the American Museum of Natural History. The collection was transferred by the American Museum of Natural History to the University of Georgia, Laboratory of Archaeology in 2017. There is no record of any potentially hazardous substances.

Human remains representing at least 97 individuals have been identified. There are approximately 5,722 associated funerary objects including ochre, daub, fired clay, lithics, shell, ceramics, ceramic bead, ceramic disc, shell beads, shell gorgets, worked shell, pearl, tabby, sandstone, petrified wood, faunal bone, bone tools, unidentified metal, metal scale, lead shot, nails, mica, gunflints, coprolite, pipe, fired clay, flotation samples, carbon 14 samples, botanicals, and soil. The American Museum of Natural History excavated at 9LI8, Fallen Tree in Liberty County, Georgia between 2013 and 2015. The collection was transferred by the American Museum of Natural History to the University of Georgia, Laboratory of Archaeology in 2022. There is no record of any potentially hazardous substances.

Human remains representing at least six individuals have been identified. The approximately 217 associated funerary objects include lithics, mica, dog burial, faunal bone, bone tools, and ceramics. Joseph Caldwell excavated at 9LI18, Johns Mound in Liberty County, Georgia between approximately 1969 and 1970. The collection was transferred to the University of Georgia, Laboratory of Archaeology after this time. In approximately 2004, the majority of the collection was transferred by the American Museum of Natural History to the Fernbank Museum of Natural History. The ancestors and objects in this notice were missed during this transfer. There is no record of any potentially hazardous substances.

Human remains representing at least one individual have been identified. The 82 associated funerary objects include ceramics, pipe fragments, and ochre. The American Museum of Natural History excavated at 9LI21, Meeting House Field in Liberty County, Georgia between 2009 and 2015. The entire collection was transferred by the American Museum of Natural History to the University of Georgia, Laboratory of Archaeology in 2017. There is no record of any potentially hazardous substances.

Human remains representing at least one individual have been identified. There are no associated funerary objects. American Museum of Natural History initially identified 9LI207, Back Creek Village in Liberty County, Georgia in 1977 and excavations were conducted there between 1991 and 2008. The entire collection was transferred by the American Museum of Natural History to the University of Georgia, Laboratory of Archaeology in 2017. There is no record of any potentially hazardous substances.

Human remains representing at least two individuals have been identified. There are no associated funerary objects. American Museum of Natural History excavated at 9LI231, St. Catherines Shell Ring in Liberty County between 2006 and 2007. The entire collection was transferred by the American Museum of Natural History to the University of Georgia, Laboratory of Archaeology in 2017. There is no record of any potentially hazardous substances.

Human remains representing at least 16 individuals have been identified. There are approximately 20 associated funerary remains including copper arm band and copper fragments. The American Museum of Natural History excavated at 9LI648, McQueen Shell Ring in 2007 and 2008. The collection was transferred by the American Museum of Natural History to the University of Georgia, Laboratory of Archaeology in 2022. There is no record of any potentially hazardous substances.

Human remains representing at least three individuals have been identified. There are no associated funerary objects. American Museum of Natural History excavated at 9LI2111, Hope Mound in Liberty County in approximately 2012. The entire collection was transferred by the American Museum of Natural History to the University of Georgia, Laboratory of Archaeology in 2017. There is no record of any potentially hazardous substances.

Human remains representing at least one individual have been identified. There are no associated funerary objects. American Museum of Natural History excavated at 9LI2117, Pueblo North in Liberty County in 2005 and 2011. The entire collection was transferred by the American Museum of Natural History to the University of Georgia, Laboratory of Archaeology in 2017. There is no record of any potentially hazardous substances.

Human remains representing at least one individual have been identified. There are approximately seven associated funerary objects including ceramics. The University of Georgia conducted a survey for the Soil Conservation Service in 1975. The ancestor and objects from this excavation are from an unknown site (only identified as Site 147) in McIntosh County, Georgia. It is likely that the collection was brought to the University of Georgia, Laboratory of Archaeology after this date. There is no record of any potentially hazardous substances.

Human remains representing at least one individual have been identified. There are no associated funerary objects. Fred Cook collected from on unknown site (only identified as Harris Neck) in McIntosh County, Georgia at an unknown date. It is likely that the collection was brought to the University of Georgia, Laboratory of Archaeology with other collections excavated by Cook but the year is unknown. There is no record of any potentially hazardous substances.

Human remains representing at least one individual have been identified. There are approximately 24 associated funerary objects including charcoal/burnt wood, shell necklace, stone discs, nails, shell, faunal bone, and ceramics. Fred Cook excavated at 9MC4, Townsend Mound in McIntosh County, Georgia in 1970. It is likely that the collection was brought to the University of Georgia, Laboratory of Archaeology with other collections excavated by Cook but the year is unknown. There is no record of any potentially hazardous substances.

Human remains representing at least 148 individuals have been identified. There are approximately 3,591 associated funerary objects including shell, faunal bone, shell/faunal bone/ceramic mix, burnt clay, charcoal, lithics, wood, ceramics, unmodified rocks, shell gorgets, shell beads, shell ear pin, pearl beads, shell pendant, metal/copper rings, nails, ochre/ferrous oxide, pipe fragments, glass beads, and botanicals. Fred Cook excavated at 9MC64, Pine Harbor in McIntosh County, Georgia in the 1970s. It is likely the collection was brought to the University of Georgia, Laboratory of Archaeology with other collections excavated by Cook but the year is unknown. There is no record of any potentially hazardous substances.

Human remains representing at least 43 individuals have been identified. There are approximately 422 associated funerary objects including ceramics, lithics, carbon 14 samples, charcoal, soil, pipe fragments, shell, faunal bone, burnt clay, botanicals, bead, burnt wood, and shell. Fred Cook excavated at 9MC414, Little Pine Island in McIntosh County, Georgia in 1987-1988. It is likely the collection was brought to the University of Georgia, Laboratory of Archaeology with other collections excavated by Cook but the year is unknown. There is no record of any potentially hazardous substances.

Human remains representing at least one individual have been identified. There are no associated funerary objects. This ancestor was only labeled CN 1443/Spec 808. Due to limited information on the labels and bags in which they were found, the provenience of the ancestor is uncertain but likely from Glynn County, Georgia. It is unknown when the ancestors were brought to the University of Georgia, Laboratory of Archaeology. There is no record of any potentially hazardous substances.

Human remains representing at least 6 individuals have been identified. There are no associated funerary objects. The ancestors were labeled as “Unprovenienced Georgia Coast Burial 1 and 2.” They were transferred from the Marine Research Extension Service Museum on Skidaway Island to the University of Georgia, Laboratory of Archaeology by Elizabeth Misner in 1993. There is no record of any potentially hazardous substances.

Human remains representing at least three individuals have been identified. There are no associated funerary objects. The ancestors were labeled as being from Ogeechee, which is located along the coast of Georgia. Based on available information, the ancestors were transferred from the Marine Research Extension Service Museum on Skidaway Island to the University of Georgia, Laboratory of Archaeology on an unknown date. There is no record of any potentially hazardous substances.

Cultural Affiliation

Based on the information available and the results of consultation, cultural affiliation is clearly identified by geographic location and acquisition history of the human remains and associated funerary objects described in this notice.

Determinations

The University of Georgia, Laboratory of Archaeology has determined that:

• The human remains described in this notice represent the physical remains of 508 individuals of Native American ancestry.

• The 15,619 objects described in this notice are reasonably believed to have been placed intentionally with or near individual human remains at the time of death or later as part of the death rite or ceremony.

• There is a connection between the human remains and associated funerary objects described in this notice and the Seminole Tribe of Florida and The Muscogee (Creek) Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, the University of Georgia, Laboratory of Archaeology must determine the most appropriate requestor prior to repatriation. Requests for joint repatriation of the human remains and associated funerary objects are considered a single request and not competing requests. The University of Georgia, Laboratory of Archaeology is responsible for sending a copy of this notice to the Indian Tribes and Native Hawaiian organizations identified in this notice and any other consulting parties.

Authority: Native American Graves Protection and Repatriation Act, 25 U.S.C. 3003, and the implementing regulations, 43 CFR 10.10.

Dated: November 21, 2025.
Melanie O'Brien,
Manager, National NAGPRA Program.

[FR Doc. 2025-22999 Filed 12-16-25; 8:45 am]

BILLING CODE 4312-52-P